DEPARTMENT OF JUSTICE

National Institute of Corrections

Solicitation for a Cooperative Agreement Document: Basic Guide to Jail Administration

AGENCY: National Institute of Corrections, Department of Justice.

ACTION: Solicitation for a cooperative agreement.

SUMMARY: The National Institute of Corrections, Jails Division, is seeking applications for the development of a document that provides jail administrators a guide to the basics of assessing, directing, and improving their jail operations.

Background: There are over 3,000 jails in the United States, and the administrators of these facilities have widely varying backgrounds, experience, and expertise. Often, jail administrators come to their position with some background in general management techniques, but with minimal knowledge and skills in assessing, directing, and overseeing functions specific to jails. Many jail administrators have access to little or no training, since jail funding is frequently severely limited and the training budget is reduced to support other basic functions. As a result of this lack of experience and information, many jail administrators cannot ensure their jails comply with legal mandates, their operations reflect effective and professional practices, or their scarce resources are efficiently used. In fact, without essential information on jail administration, many of those who oversee the nation's jails cannot even ensure their jails are safe and secure, and this puts staff, inmates, and the community at risk—and places the local government at high risk for liability.

The National Institute of Corrections offers training on jail administration, but is able to reach only a minority of the nation's jail administrators in this way. NIC also makes available a variety of documents on administration-related issues and refers jail administrators to other sources of information and services where appropriate. There is, however, no one document that can serve as a concise and practical guide to jail administration. Such a document will help fill a widespread information void among the nation's jail administrators.

Project Objectives: The National Institute of Corrections wishes to produce a basic guide to jail administration that can be widely disseminated to the nation's jails.

Scope of Work

Document Length: Approximately 150 pages in the body of the document, plus appendices

Document Audience: Administrators of jails of all sizes and all geographic locations, especially those administrators who are new to their positions or those who have been in their position for some time without benefit of training.

Use of Document: The document will be a practical guide to the assessment, direction, and oversight of local jails.

Document Distribution: NIC expects to distribute the document widely. It will be made available, upon request and free of charge, through the NIC Information Center. Local officials, jail administrators and other practitioners, professional corrections organizations, private corrections consultants, and professionals in related fields will be able to request and receive this document.

Document Content: The document will be a basic guide to jail administration. It must be concise, clear, and easily read and referenced. It must be of practical use to the jail administrator and provide information and assessment tools that will allow the administrator to evaluate and improve his/her jail operations. It is not intended to provide exhaustive information on each content topic; instead, it should provide a brief narrative on each topic with related assessment instruments and reference to other reading and resources for further information. The following is an outline of the content topics, at a minimum, to be included. This is not intended to dictate the organization of the manual, but to give applicants an idea of expected subject matter. NIC acknowledges that content and organization will evolve during document development, and applicants are encouraged to present their ideas about organization and content in their proposals.

For the purpose of this Request for Proposal, content topics are divided into three broad areas: (1) Introductory or general topics, (2) tools the jail administrator will apply in all areas of jail operations, and (3) specific jail functions.

Introductory Topics

The Role of the Jail in the Criminal Justice System

Inmates—a discussion of the legal status of jail inmates (pre-trial and sentenced, detention for various criminal justice agencies), the diversity of the population (gender, age, needs and risks among the inmate population), and the challenges this diversity presents to jail management.

The role of the jail administrator—an overview of the administrator's role in the jail and his/her role in areas that are external to, but affect, the jail.

Administrative liability and the basics of risk reduction.

First thirty days on the job: questions to ask and where to get the answers.

Planning, setting priorities, and making improvements.

For each introductory or general topic, the document should also include references to additional reading and resources.

Fundamental Tools in Jail Administration (tools applied to any jail function)

Jail standards—how standards are used in jail management; sources of standards.

Policies and procedures—how policies and procedures are used in jail management; developing, reviewing, and updating policies and procedures.

Resources—budget management strategies, non-fiscal resources available to jails.

Staffing—determining needs; justifying and presenting the staffing request.

Staff training—components of an effective staff training plan; training resources.

Assessments and audits, both internal and external—assessments and audits essential to jail management; how to use assessment and audit information to make improvements.

Documentation—the criticality, purposes, and uses of documentation in the jail.

For each of the “fundamental tools” topics, the document should also include strategies and instruments for assessing operations and references to additional reading and resources.

Jail Functions

For each of the following areas, the discussion should include: (1) Related legal requirements and standards, (2) effective practices, (3) strategies and tools for assessing operations, (4) strategies for improving operations (issues to consider, developing an action plan, resources needed), (5) strategies for measuring improvements, and (6) references to additional reading and resources.

Personnel management

Security

Emergency preparedness

Physical plant: safety, sanitation, and maintenance

Intake and release

Inmate supervision and behavior management, including classification

Inmate services

Inmate programs

Project Description: The awardee will produce a completed document that has received an initial edit from a professional editor. NIC will be responsible for the final editing process and document design, but the awardee will remain available during this time for questions and discussion. No travel will be required during the final edit.

Project Schedule: The list below shows the major activities required to complete the project. Document development will begin upon award of this agreement and must be completed twelve months after the award date. The schedule for completion of activities should include the following, at a minimum.

Meet with NIC staff for a project overview and initial planning for content

Review materials provided by NIC (awardee)

Complete initial outline of document content and layout (awardee)

Meet with NIC project staff to review, discuss, and agree on content outline

Research content topics and related resources (awardee)

Develop assessment tools related to content topics (awardee)

Submit draft sections of document to NIC for review (awardee)

Revise draft sections for NIC's approval (awardee)

Submit draft of entire document to NIC for review (awardee)

Revise document for NIC's approval (awardee)

Submit document to editor hired by awardee for first content edit (awardee)

Submit document to NIC in hard copy and on disk in Microsoft Word format (awardee)

Throughout the project period, the awardee should make provisions for meetings with NIC staff—to be held in Longmont, Colorado—at critical planning and review points in document development.

Authority: Public Law 93-415.

Funds Available: The award will be limited to $60,000 (direct and indirect costs) and project activity must be completed within twelve months of the date of award. Funds may not be used for construction, or to acquire or build real property. This project will be a collaborative venture with the NIC Jails Division.

Application Procedures

Applications must be submitted in six copies to the Director, National Institute of Corrections, 320 First Street, NW., Room 5007, Washington, DC 20534. At least one copy of the application must have the applicant's original signature in blue ink. A cover letter must identify the responsible audit agency for the applicant's financial accounts.

Applications must be submitted using OMB Standard Form 424, Federal Assistance and attachments. The applications should be concisely written, typed double-spaced, and referenced to the project by the number and title given in this cooperative agreement announcement.

The narrative portion of this grant application should include, at a minimum:

A brief paragraph that indicates the applicant's understanding of the purpose of the document and the issues to be addressed;

A brief paragraph that summarizes the project goals and objectives;

A clear description of the methodology that will be used to complete the project and achieve its goals;

A statement or chart of measurable project milestones and time lines for the completion of each;

A description of the staffing plan for the project, including the role of each project staff, the time commitment for each, the relationship among the staff (who reports to whom), and an indication that all required staff will be available;

A description of the qualifications of the applicant organization and each project staff;

A budget that details all costs for the project, shows consideration for all contingencies for this project, and notes a commitment to work within the budget proposed (budget should be divided into object class categories as shown on application Standard Form 424A).

Documentation of the principals' and associates' relevant knowledge, skills, and abilities to carry out the described tasks must be included in the application.

Deadline for Receipt of Applications: Applications must be received by 4 p.m. Eastern Time on Tuesday, April 16, 2002. They should be addressed to Director, National Institute of Corrections, 320 First Street, NW., Room 5007, Washington, DC 20534. The NIC application number should be written on the outside of the mail or courier envelope. Applicants are encouraged to use Federal Express, UPS, or similar service to ensure delivery by the due date as mail at the National Institute of Corrections is still being delayed due to recent events. Hand delivered applications should be brought to 500 First Street, NW., Washington, DC 20534. The front desk will call (202) 307-3106 for pickup. Faxed or emailed applications will not be accepted.

Addresses and Further Information: A copy of this announcement and the application forms may be obtained through the NIC Web site: http.//www.nicic.org. (click on “Cooperative Agreements”). Requests for a hard copy of this announcement and the application forms should be directed to Judy Evens, Cooperative Agreement Control Office, National Institute of Corrections, 320 First Street, NW., Room 5007, Washington, DC 20534 or by calling 800-995-6423, ext. 44222, 202-307-3106, ext. 44222, or e-mail: jevens@bop.gov. All technical and/or programmatic questions concerning this announcement should be directed to Alan Richardson at 1960 Industrial Circle, Longmont, CO 80501, or by calling 800-995­-6429, ext. 143 or 303-682-0382, ext. 143, or by e-mail: alrichardson@bop.gov.

Eligibility of Applicants: An eligible applicant is any state or general unit of local government, public or private agency, educational institution, organization, team, or individual with the requisite skills to successfully meet the outcome objectives of the project.

Review Considerations: Applications received under this announcement will be subjected to a NIC three to five member Peer Review Process. Among the criteria used to evaluate the applications are:

Indication of a clear understanding of the project requirements;

Background, experience, and expertise of the proposed project staff, including any subcontractors;

Effectiveness of the creative approach to the project;

Clear, concise description of all elements and tasks of the project, with sufficient and realistic time frames necessary to complete the tasks;

Technical soundness of project design and methodology;

Financial and administrative integrity of the proposal, including adherence to federal financial guidelines and processes;

Sufficiently detailed budget that shows consideration of all contingencies for this project and commitment to work within the budget proposed; Indication of availability to meet with NIC staff at key points in document development.

Number of Awards: One (1).

NIC Application Number: 02J18. This number should appear in your cover letter, in box 11 of Standard Form 424, and on the outside of the envelope in which the application is sent.

Executive Order 12372

This project is not subject to the provisions of Executive Order 12372.

Catalog of Federal Domestic Assistance Number: 16.601.
Dated: February 27, 2002.
Morris L. Thigpen,
Director, National Institute of Corrections.

[FR Doc. 02-5076 Filed 3-1-02; 8:45 am]

BILLING CODE 4410-36-M